DEPARTMENT OF THE INTERIOR

Geological Survey

Patent, Trademark & Copyright Acts

AGENCY: U.S. Geological Survey.

ACTION: Notice of Prospective Intent to Award Co-Exclusive Licenses.

SUMMARY: The United States Geological Survey (USGS) is contemplating awarding co-exclusive licenses to: Columbia Analytical Services, Inc., 1317 South 13th Avenue, Kelso, WA 98626 and EON Products, Inc., P.O. Box 443, Snellville, GA 30078 on U.S. Patent Application Serial No. 10/767,496, entitled “Porous Polyethylene Diffusion Sampler for Ground Water.“

Inquiries: If other parties are interested in similar activities, or have comments related to the prospective awards, please contact Neil Mark, USGS, 12201 Sunrise Valley Drive, MS 201, Reston, Virginia 20192, voice (703) 648-4344, fax (703) 648-7219, or e-mail nmark@usgs.gov.

SUPPLEMENTARY INFORMATION: This notice is submitted to meet the requirements of 35 U.S.C. 208 et seq.

Dated: January 10, 2006.
Karen D. Baker,
Acting Associate Director, Office of Administrative Policy and Services.

[FR Doc. 06-500 Filed 1-18-06; 8:45 am]

BILLING CODE 4311-AM-M